DEPARTMENT OF JUSTICE

[OMB Number 1105-0084]

Agency Information Collection Activities; Proposed eCollection eComments Requested; Revisions of Previously Approved Collection. Title—Application for Approval as a Nonprofit Budget and Credit Counseling Agency (Application)

AGENCY: United States Trustee Program, Department of Justice.

ACTION: 30-Day notice.

SUMMARY: The Department of Justice, United States Trustee Program, is submitting the following information collection request to the Office of Management and Budget (OMB) for review and approval in accordance with the Paperwork Reduction Act of 1995.

DATES: The Department of Justice encourages public comment and will accept input until September 8, 2025.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: The proposed information collection was previously published in the Federal Register on 90 FR 22326, May 27, 2025, allowing a 60-day comment period.

Written comments and suggestions from the public and affected agencies concerning the proposed collection of information are encouraged. Your comments should address one or more of the following four points:

—Evaluate whether the proposed collection of information is necessary for the proper performance of the functions of the United States Trustee Program, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Revisions of previously approved collection.

2. The Title of the Form/Collection: Application for Approval as a Nonprofit Budget and Credit Counseling Agency (Application).

3. The agency form number, if any, and the applicable component of the Department sponsoring the collection: There is no agency form number for this collection. The applicable component within the Department of Justice is the United States Trustee Program.

4. Affected public who will be asked or required to respond, as well as a brief abstract: Nonprofit agencies that wish to offer credit counseling services pursuant to the Bankruptcy Abuse Prevention and Consumer Protection Act of 2005 (“BAPCPA”), Public Law 109-8, 119 Stat. 23, 37, 38 (April 20, 2005), and codified at 11 U.S.C. 109(h) and 111, and Application Procedures and Criteria for Approval of Nonprofit Budget and Credit Counseling Agencies by United States Trustees, 78 FR 16,138 (March 14, 2013) (Rule).

The BAPCPA requires any individual who wishes to file for bankruptcy to obtain credit counseling, within 180 days before filing for bankruptcy relief, from a nonprofit budget and credit counseling agency that has been approved by the United States Trustee. The Application collects information from such agencies in order to ensure compliance with the law and the Rule.

5. An estimate of the total number of respondents and the amount of time estimated for an average respondent to respond: It is estimated that 74 respondents will complete the Application; initial applicants will complete the Application in approximately ten (10) hours, standard renewal applicants will complete the Application in approximately four (4) hours and refreshed renewal applicants will complete the Application in approximately nine (9) hours.

6. An estimate of the total public burden (in hours) associated with the collection: The estimated public burden associated with this collection is 391 hours.

If additional information is required contact: Darwin Arceo, Department Clearance Officer, United States Department of Justice, Justice Management Division, Policy and Planning Staff, Two Constitution Square, 145 N Street NE, 3E.405A, Washington, DC 20530.

Dated: August 6, 2025.
Darwin Arceo,
Department Clearance Officer for PRA, U.S. Department of Justice.

[FR Doc. 2025-15108 Filed 8-7-25; 8:45 am]

BILLING CODE 4410-40-P